DEPARTMENT OF HOUSING AND URBAN DEVELOPMENT

[Docket No. FR-5376-N-100]

Notice of Proposed Information Collection: Comment Request; HUD Stakeholder Survey

AGENCY: Office of the Chief Information Officer, HUD.

ACTION: Notice.

SUMMARY: The proposed information collection requirement described below will be submitted to the Office of Management and Budget (OMB) for review, as required by the Paperwork Reduction Act. The Department is soliciting public comments on the subject proposal.

DATES: Comments Due Date: January 3, 2011.

ADDRESSES: Interested persons are invited to submit comments regarding this proposal. Comments should refer to the proposal by name and/or OMB Control Number and should be sent to: Colette Pollard, Departmental Reports Management Officer, QDAM, Department of Housing and Urban Development, 451 Seventh Street, SW., Room 4176, Washington, DC 20410; telephone: 202-402-5564, (this is not a toll-free number) or e-mail Ms. Pollard at Colette.Pollard@HUD.gov for a copy of the proposed form and other available information.

FOR FURTHER INFORMATION CONTACT: Francey Youngberg, Deputy Assistant Secretary for Intergovernmental Affairs, Department of Housing and Urban Development, 451 Seventh Street, SW., Room 10148, Washington, DC 20410; telephone: (202) 402-6431, (this is not a toll-free number) or e-mail Ms. Youngberg at Francey.L.Youngberg@hud.gov.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: HUD Stakeholder Survey.

OMB Control Number, if applicable: 2501-New.

Description of the need for the information and proposed use: The Department of Housing and Urban Development (HUD) hosts events with a variety of groups nationwide designed to educate stakeholders about HUD initiatives and policies. This data collection consists of a brief, optional survey to be completed in person at the end of each event. The information produced by the stakeholder surveys will allow HUD to measure the effectiveness of the stakeholder sessions and collect feedback on policy initiatives. The information can be used to shape policies, improve stakeholder events and make better use of HUD's limited time with stakeholders. There are no similar surveys which allow for HUD to engage in a sustained, systematic collection of feedback from stakeholders on of a broad range of HUD initiatives and events.

Agency form numbers, if applicable: None.

Members of Affected Public: Stakeholder groups include (but are not limited to) public housing authorities, congressional members and staff, local government officials, assisted housing residents, HUD grantees, civil rights organizations, homeless advocacy organizations, the legal community, academics, organized labor representatives, HUD grantees, and members of the housing, nonprofit, philanthropic, business and faith-based sectors.

Estimation of the total number of hours needed to prepare the information collection including number of respondents, frequency of response, and hours of response:

Frequency of Submission: On occasion.

| Number of respondents | Annual responses | × | Hours per response | = | Burden hours
Reporting Burden | 3,150 | 1 |  | 0.1 |  | 315

Total Estimated Burden Hours: 315.

Status of the proposed information collection: New collection.

Authority: Section 3506 of the Paperwork Reduction Act of 1995, 44 U.S.C. Chapter 35, as amended.

Dated: October 28, 2010.
Francey Youngberg,
Deputy Assistant Secretary for Intergovernmental Affairs.

[FR Doc. 2010-27923 Filed 11-3-10; 8:45 am]

BILLING CODE 4210-67-P